DEPARTMENT OF ENERGY

Federal Energy Regulatory Commission

[Project No. 2277]

AmerenUE; Notice of Availability of Draft Environmental Assessment

June 7, 2007.

In accordance with the National Environmental Policy Act of 1969 and the Federal Energy Regulatory Commission (Commission or FERC) regulations contained in the Code of Federal Regulations (CFR) (18 CFR part 380), the Office of Energy Projects staff (staff) reviewed AmerenUE's request to rebuild the upper reservoir of the Taum Sauk Pumped Storage Project (FERC No. 2277), located on the East Fork Black River, in Reynolds County, Missouri, and prepared a Draft Environmental Assessment (DEA) for the construction project. In this DEA, staff analyzes the potential environmental effects of the Proposed Action and concludes that the proposal, with recommended mitigation measures, would not constitute a major federal action significantly affecting the quality of the human environment.

A copy of the DEA is available for review at the Commission in the Public Reference Room, or it may be viewed on the Commission's Web site at http://www.ferc.gov using the e-Library link. Enter the docket number (P-2277) in the docket number field to access the document. For assistance, call (202) 502-8222 or (202) 502-8659 (for TTY).

Any comments should be filed by, July 9, 2007, and should be addressed to Secretary, Federal Energy Regulatory Commission, 888 First Street, NE., Washington, DC 20426. Please reference the Taum Sauk Project No. 2277, on all comments. For further information on this notice, please contact Thomas LoVullo at (202) 502-8900.

Comments may be filed electronically via the Internet in lieu of paper. See 18 CFR 385.2001 (a)(1)(iii) and the instructions on the Commission's Web site at http://www.ferc.gov under the e-Filing link. The Commission strongly encourages electronic filing.

Kimberly D. Bose,
Secretary.

[FR Doc. E7-11460 Filed 6-13-07; 8:45 am]

BILLING CODE 6717-01-P